ENVIRONMENTAL PROTECTION AGENCY

[FIFRA Docket No. 661; FRL-9804-2]

Rodenticides; Notice of Intent To Cancel Registrations of, and Notice of Denial of Applications for, Certain Rodenticide Bait Products

AGENCY: United States Environmental Protection Agency.

ACTION: Notice of objections filed and hearing requested.

Notice is hereby given, pursuant to Section 6 of the Federal Insecticide, Fungicide, and Rodenticide Act, 7 U.S.C. 136d, and Section 164.8 of the associated Rules of Practice Governing Hearings set forth at 40 CFR part 164, that objections were filed and a hearing was requested in response to the Notice of Intent to Cancel Registration of, and Notice of Denial of Application for, Certain Rodenticide Bait Products, published in the Federal Register on February 5, 2013, 78 FR 8123.

This proceeding has been assigned FIFRA Docket No. 661, In the Matter of Reckitt Benckiser, LLC, et al., and the undersigned has been designated to preside. A hearing on the objections filed will be conducted in accordance with the Rules of Practice set forth at 40 CFR part 164. Notice of the hearing date and time will be published when the hearing is scheduled.

An electronic copy of the case file in this proceeding is publically available online at www.epa.gov/oalj/filings-section6.htm. The official case file is available for public inspection between the hours of 8:30 a.m. and 4:30 p.m., Monday through Friday, in the office of the Hearing Clerk, located in Room M1200 of the Ronald Reagan Building, 1300 Pennsylvania Avenue NW., Washington, DC 20004.

Dated: April 4, 2013.
Susan L. Biro,
Chief Administrative Law Judge.

[FR Doc. 2013-09066 Filed 4-16-13; 8:45 am]

BILLING CODE 6560-50-P